ENVIRONMENTAL PROTECTION AGENCY

40 CFR Part 52

[EPA-R06-OAR-2009-0745; FRL-9110-1]

Approval and Promulgation of Implementation Plans; Albuquerque-Bernalillo County, NM; Excess Emissions

AGENCY: Environmental Protection Agency (EPA).

ACTION: Proposed rule.

SUMMARY: The EPA is proposing to approve revisions to the New Mexico State Implementation Plan (SIP) submitted by the Governor of New Mexico on behalf of the Albuquerque Environmental Health Department (AEHD) in a letter dated September 23, 2009 (the September 23, 2009 SIP submittal). The September 23, 2009 SIP submittal concerns revisions to New Mexico Administrative Code Title 20, Chapter 11, Part 49, Excess Emissions (20.11.49 NMAC—Excess Emissions) occurring during startup, shutdown, and malfunction related activities. We are proposing to approve the September 23, 2009 SIP submittal in accordance with the requirements of section 110 of the Clean Air Act.

DATES: Written comments must be received on or before March 8, 2010.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the Rules Section of this Federal Register.

FOR FURTHER INFORMATION CONTACT: Mr. Alan Shar, Air Planning Section (6PD-L), Environmental Protection Agency, Region 6, 1445 Ross Avenue, Suite 700, Dallas, Texas 75202-2733, telephone (214) 665-6691, fax (214) 665-7263, e-mail address shar.alan@epa.gov.

SUPPLEMENTARY INFORMATION: In the final Rules Section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. The EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule, which is located in the Rules Section of this Federal Register.

Dated: January 25, 2010.
Al Armendariz,
Regional Administrator, Region 6.

[FR Doc. 2010-2394 Filed 2-3-10; 8:45 am]

BILLING CODE 6560-50-P